DEPARTMENT OF COMMERCE

National Oceanic and Atmospheric Administration

[I.D. 091604B]

Endangered Species; File No. 1486 and File No. 1505

AGENCY: National Marine Fisheries Service (NMFS), National Oceanic and Atmospheric Administration (NOAA), Commerce.

ACTION: Receipt of applications for permits.

SUMMARY: Notice is hereby given of the following actions regarding permits for scientific research on shortnose sturgeon (Acipenser brevirosturm): NMFS has received a permit application from the South Carolina Department of Natural Resources, Freshwater Fisheries Section (Mr. Doug Cooke, Principal Investigator), P.O. Drawer 190, 305 Black Oak Road, Bonneau, SC 29431 (File No. 1505). NMFS has received a request to modify a permit application from Mr. Harold M. Brundage, Environmental Research and Consulting, Inc., 112 Commons Court, Chadds Ford, PA 19317 (File No. 1486).

DATES: Written or telefaxed comments must be received on or before October 25, 2004.

ADDRESSES: The applications and related documents are available for review upon written request or by appointment in the following office(s):

All documents: Permits, Conservation and Education Division, Office of Protected Resources, NMFS, 1315 East-West Highway, Room 13705, Silver Spring, MD 20910; phone (301)713-2289; fax (301)713-0376.

For File No. 1486: Northeast Region, NMFS, One Blackburn Drive, Gloucester, MA 01930-2298; phone (978)281-9200; fax (978)281-9371; and

For File No. 1505: Southeast Region, NMFS, 9721 Executive Center Drive North, St. Petersburg, FL 33702-2432; phone (727)570-5301; fax (727)570-5320.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on the particular request would be appropriate.

Comments may also be submitted by facsimile at (301)713-0376, provided the facsimile is confirmed by hard copy submitted by mail and postmarked no later than the closing date of the comment period.

Comments may also be submitted by e-mail. The mailbox address for providing email comments is NMFS.Pr1Comments@noaa.gov. Include in the subject line of the e-mail comment the following document identifier: either File No. 1486 or File No. 1505.

FOR FURTHER INFORMATION CONTACT: Jennifer Jefferies or Dr. Tammy Adams, (301)713-2289.

SUPPLEMENTARY INFORMATION: The subject permits are requested under the authority of the Endangered Species Act of 1973, as amended (ESA; 16 U.S.C. 1531 et seq.) and the regulations governing the taking, importing, and exporting of endangered and threatened species (50 CFR 222-226).

File No. 1510: The South Carolina Department of Natural Resources seeks authorization to sample and track shortnose sturgeon in South Carolina coastal waters. Annually, up to 50 fish would be captured via gill nets, trot lines, and trawls, measured, weighed, PIT and dart tagged, tissue sampled for genetic testing and the fish subsequently released. A subset of 20 fish annually would also have a fin ray removed for aging studies, be outfitted with a radio/sonic transmitter and tracked and/or have gastric lavage performed on them. Additionally, the researchers would utilize drift nets and deploy buffer pads to collect up to 200 shortnose sturgeon eggs annually. A second study would be conducted specifically in the Santee-Cooper River system: annually, up to 48 fish would be captured via gill nets, trot lines, and trawls, measured, weighed, PIT and dart tagged, tissue sampled for genetic testing, blood sampled, sexed via laparascopy and the fish subsequently released. This research would be conducted for five years from issuance of the permit. A total of 2 incidental mortalities annually are requested.

File No. 1486: A notice of receipt of an application from Mr. Harold Brundage to conduct scientific research on shortnose sturgeon was published on May 27, 2004 (69 FR 30287). Mr. Brundage sought authorization to sample and track shortnose sturgeon in the Delaware River/Bay and Chesapeake Bay for five years. Annually, up to 3,500 fish in the Delaware system and up to 130 fish in the Chesapeake Bay were to be captured via gill nets and trawls, measured, weighed, PIT and floy T-bar tagged, tissue sampled, and the fish subsequently released. Additionally, up to 60 of the total fish sampled annually in the Delaware system only were to also receive an internal sonic transmitter. The permit has not been issued yet but Mr. Brundage has amended his application to include the use of laparascopic techniques to assess the health and determine the sex of up to 50 fish annually in the Delaware system and Chesapeake Bay. This number is the total requested across both systems and is a subset of the fish listed above for capture. The laparascopic activities would be in addition to the activities listed above.

Dated: September 17, 2004.
Stephen L. Leathery,
Chief, Permits, Conservation and Education Division, Office of Protected Resources, National Marine Fisheries Service.

[FR Doc. 04-21401 Filed 9-22-04; 8:45 am]

BILLING CODE 3510-22-S